DEPARTMENT OF ENERGY

Federal Energy Regulatory Commission

[Docket No. CP19-99-000]

Notice of Schedule for Environmental Review of the Natural Gas Pipeline Company of America Gulf Coast Southbound Project

On February 28, 2019, Natural Gas Pipeline Company of America (Natural) filed an application in Docket No. CP19-99-000 requesting a Certificate of Public Convenience and Necessity and Abandonment Authority pursuant to Sections 7(c) and 7(b) of the Natural Gas Act to construct, operate, and abandon certain natural gas pipeline facilities. The proposed project, known as the Gulf Coast Southbound Project (Project), would expand the southbound transportation capacity of Natural's Gulf Coast Mainline System by 300,000 dekatherms per day through modifications at five existing natural gas compressor stations in the state of Texas.

On March 6, 2019, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—October 23, 2019

90-day Federal Authorization Decision Deadline—January 21, 2020

If a schedule change becomes necessary, additional notice will be provided so that the relevant agencies are kept informed of the Project's progress.

Project Description

As part of the Project, Natural would conduct the following activities (all locations are in the state of Texas):

• Install one new electric motor driven compressor unit with a rating of 10,000 horsepower, abandon two existing compressor units, and add cooling equipment and a new filter separator at existing Compressor Station 300 in Victoria County.

• Install one Solar Mars 100 turbine with a rating of 15,900 horsepower, add cooling equipment, and replace two filter separators at existing Compressor Station 301 in Wharton County.

• Install two Solar Titan 130 turbines with a rating of 23,470 horsepower each, abandon in place 10 existing compressor units, and add cooling equipment and filter separators at existing Compressor Station 304 in Harrison County.

• Install gas coolers and filter separators at existing Compressor Stations 303 and 394 in Angelina and Cass Counties, respectively.

Background

On April 9, 2019, the Commission issued a Notice of Intent to Prepare an Environmental Assessment for the Proposed Gulf Southbound Project and Request for Comments on Environmental Issues (NOI). The NOI was sent to affected landowners; federal, state, and local government agencies; elected officials; Native American tribes; other interested parties; and local libraries and newspapers. All substantive comments received will be addressed in the EA. As of the date of issuance of this notice, no comments have been received.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP19-99), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: April 29, 2019.
Kimberly D. Bose,
Secretary.

[FR Doc. 2019-09198 Filed 5-3-19; 8:45 am]

BILLING CODE 6717-01-P